DEPARTMENT OF THE TREASURY

Privacy Act of 1974, as Amended

AGENCY: Financial Management Service, Treasury.

ACTION: Notice of amendment to system of records.

SUMMARY: In accordance with the Privacy Act of 1974, as amended, the Financial Management Service gives notice of a proposed alteration to the Privacy Act system of records entitled “Treasury/FMS .008—Mailing List Records.”

DATES: Comments must be received no later than September 16, 2011. The altered system of records will become effective September 16, 2011 unless comments are received which would result in a contrary determination.

ADDRESSES: You should send your comments to Peter Genova, Deputy Chief Information Officer, Financial Management Service, 401 14th Street, SW., Washington, DC 20227. Comments received will be available for inspection at the same address between the hours of 9 a.m. and 4 p.m. Monday through Friday. You may send your comments by electronic mail to peter.genova@fms.treas.gov or http://regulations.gov. All comments, including attachments and other supporting materials, received are subject to public disclosure. You should submit only information that you wish to make available publicly.

FOR FURTHER INFORMATION CONTACT: Peter Genova, Deputy Chief Information Officer, (202) 874-1736.

SUPPLEMENTARY INFORMATION: On December 16, 2010, the Financial Management Service (FMS), a bureau within the U.S. Department of the Treasury (Treasury), established a new system of records entitled “Mailing List Records—Treasury/FMS .008” by publishing a new system of records notice at 75 FR 78802, pursuant to the Privacy Act of 1974, as amended, 5 U.S.C. 552a. FMS proposes to amend that system of records by adding to the “categories of individuals covered by the system,” and the “categories of records in the system.”

Under the existing system of records, FMS may obtain and maintain identifying information (names and addresses) of low-to-moderate income individuals who are more likely to be unbanked or underbanked, who could potentially receive Federal tax refund payments, and whose names and addresses are included on mailing lists purchased from commercial providers. These records are maintained in order for the bureau to send letters to these individuals to inform them of the benefits of electronic payments and Treasury-recommended account options for receiving payments electronically. The information may also be used to study the effectiveness of offering account options to individuals to receive Federal payments. To study program efficacy, FMS may use the mailing list records to collect aggregate statistical information on the success and benefits of direct mail and the use of commercial database providers.

FMS proposes to broaden the “categories of records in the system” to include demographic information about these individuals, in addition to identifying information. Further, FMS proposes to expand the “categories of individuals covered by the system” to include not only individuals whose records were purchased from commercial providers, but also those individuals whose information was obtained from other sources, such as people who have previously been mailed a paper check by FMS. The proposed amendments to the system would allow FMS to obtain and use information such as income range, likelihood of being unbanked, and gender in determining what types of account options best meet the needs of low- to moderate-income individuals for the purpose of receiving their Federal payments. The addition of these data elements to the system will give FMS access to information which will allow the bureau to better understand the needs of the specific population that could benefit from electronic payment of tax refunds. In this way, FMS will be able to more effectively serve the public.

The altered system of records report, as required by 5 U.S.C. 552a(r) of the Privacy Act, has been submitted to the Committee on Government Reform of the House of Representatives, the Committee on Governmental Affairs of the Senate, and the Office of Management and Budget, pursuant to Appendix I to OMB Circular A-130, “Federal Agency Responsibilities for Maintaining Records About Individuals,” dated November 30, 2000. For the reasons described in the preamble, FMS proposes to alter its system of records Treasury/FMS .008—Mailing List Records, as set forth below.

Treasury/FMS .008

System name:

Mailing List Records—Treasury/Financial Management Service.

* * * * *

Categories of individuals covered by the system:

Description of change: At the end of the first sentence following the word “providers” add the phrase “or acquired from other sources.” The paragraph is revised to read: “Low- to moderate-income individuals who are more likely to be unbanked or underbanked, who could potentially receive Federal tax refund payments, and whose names and addresses are included on mailing lists purchased from commercial providers or acquired from other sources.”

Categories of records in the system:

Description of change: At the end of the sentence following the word “address” add the phrase “as well as demographic data, such as income range, gender or other characteristics.” The paragraph is revised to read:

“The records may contain identifying information, such as an individual's name(s) and address, as well as demographic data, such as income range, gender or other characteristics.”

* * * * *

Dated: August 8, 2011.
Veronica Marco,
Acting Deputy Assistant Secretary for Privacy, Transparency, and Records.

[FR Doc. 2011-20951 Filed 8-16-11; 8:45 am]

BILLING CODE 4810-35-P